DEPARTMENT OF COMMERCE

National Oceanic and Atmospheric Administration

[I.D. 081104D]

New England Fishery Management Council; Public Meetings

AGENCY: National Marine Fisheries Service (NMFS), National Oceanic and Atmospheric Administration (NOAA), Commerce

ACTION: Notice of a public meeting.

SUMMARY: The New England Fishery Management Council (Council) is scheduling a public meeting of its Habitat Oversight Committee in September, 2004. Recommendations from the committee will be brought to the full Council for formal consideration and action, if appropriate.

DATES: The meeting will held on Wednesday, September 8, 2004, at 9:30 a.m.

ADDRESSES: The meeting will be held at the Sheraton Braintree Hotel, 37 Forbes Road, Braintree, MA 02184; telephone: (781) 848-0600.

Council address: New England Fishery Management Council, 50 Water Street, Newburyport, MA 01950.

FOR FURTHER INFORMATION CONTACT: Paul J. Howard, Executive Director, New England Fishery Management Council; telephone: (978) 465-0492.

SUPPLEMENTARY INFORMATION: The Committee will discuss Essential Fish Habitat (EFH) Omnibus Amendment 2 issues, including, but not limited to, the review of the draft purpose and need statement based on the approved goals and objectives, the draft timeline, Habitat Areas of Particular Concern and Dedicated Habitat Research Areas issues, and thresholds and terms of reference for EFH. They will also review Monkfish Amendment 2/General legal guidance requested on deep-sea coral alternatives. Also on the agenda will be the discussion of Framework 40B to the Northeast Multispecies Fishery Management Plan with the possible development or review of alternatives related to EFH.

The committee will discuss the organization of a workshop, co-sponsored by the Marine Protected Area (MPA) Center, to assist in the development of a draft Council MPA policy. They will hear presentations on an ongoing basis in an effort to increase the understanding of habitat and MPA related issues. Other business will be discussed at the discretion of the Committee.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: August 13, 2004.
Alan D. Risenhoover,
Acting Director, Office of Sustainable Fisheries, National Marine Fisheries Service.

[FR Doc. E4-1844 Filed 8-18-04; 8:45 am]

BILLING CODE 3510-22-S